DEPARTMENT OF HEALTH AND HUMAN SERVICES

National Institutes of Health

Proposed Collection; 60-Day Comment Request; Introduction to Cancer Research Careers (ICRC) Application (NCI)

AGENCY: National Institutes of Health, HHS.

ACTION: Notice.

SUMMARY: In compliance with the requirement of the Paperwork Reduction Act of 1995 to provide opportunity for public comment on proposed data collection projects, the National Institutes of Health, National Cancer Institute (NCI) will publish periodic summaries of proposed projects to be submitted to the Office of Management and Budget (OMB) for review and approval.

DATES: Comments regarding this information collection are best assured of having their full effect if received within 60 days of the date of this publication.

FOR FURTHER INFORMATION CONTACT: To obtain a copy of the data collection plans and instruments, submit comments in writing, or request more information on the proposed project, contact: Agustina Boswell, Program Coordinator, Office of Workforce Planning and Development, National Cancer Institute, 9609 Medical Center Drive, Room 2E-134, Rockville, Maryland 20892 or call non-toll-free number (240) 276-5162 or Email your request, including your address to: boswellam@mail.nih.gov. Formal requests for additional plans and instruments must be requested in writing.

SUPPLEMENTARY INFORMATION: Section 3506(c)(2)(A) of the Paperwork Reduction Act of 1995 requires: Written comments and/or suggestions from the public and affected agencies are invited to address one or more of the following points: (1) Whether the proposed collection of information is necessary for the proper performance of the function of the agency, including whether the information will have practical utility; (2) The accuracy of the agency's estimate of the burden of the proposed collection of information, including the validity of the methodology and assumptions used; (3) Ways to enhance the quality, utility, and clarity of the information to be collected; and (4) Ways to minimize the burden of the collection of information on those who are to respond, including the use of appropriate automated, electronic, mechanical, or other technological collection techniques or other forms of information technology.

Proposed Collection Title: The National Cancer Institute's Introduction to Cancer Research Careers (ICRC) Application (NCI), 0925-XXXX, Exp., Date XX/XXXX, NEW, National Cancer Institute (NCI), National Institutes of Health (NIH).

Need and Use of Information Collection: The National Cancer Institute's (NCI) ICRC fellowship program supports NCI's goal of training cancer researchers for the 21st century. Applying to the ICRC program through the ICRC website application is required in order for undergraduates, postbaccalaureate, graduate student candidates to be considered for entry into the program. The purpose of the ICRC Application is to assure that candidates for the ICRC program meet basic eligibility requirements; to assess their potential as future scientists; to determine where mutual research interests exist; and to make decisions regarding which applicants will be proposed and approved for fellowship awards. The information is for internal use to make decisions about prospective fellows and students that could benefit from the ICRC program.

OMB approval is requested for 3 years. There are no costs to respondents other than their time. The total estimated annualized burden are 240 hours.

Estimated Annualized Burden Hours
Form name | Type of respondent | Number of respondents | Number of responses per respondent | Average time per response (in hours) | Total annual burden hours
Application | Individuals | 120 | 1 | 60/60 | 120
Reference Letter | Individuals | 240 | 1 | 30/60 | 120
Total |  | 360 | 360 |  | 240

Patricia M. Busche,
Project Clearance Liaison, National Cancer Institute, National Institutes of Health.

[FR Doc. 2019-09615 Filed 5-9-19; 8:45 am]

BILLING CODE 4140-01-P